DEPARTMENT OF VETERANS AFFAIRS

Advisory Committee on Cemeteries and Memorials, Notice of Meeting

The Department of Veterans Affairs (VA) gives notice under the Federal Advisory Committee Act that a virtual meeting of the Advisory Committee on Cemeteries and Memorials will be held on May 5, 2020-May 6, 2020. The meeting sessions will be held as follows:

Date | Time
May 5, 2020 | 1:00 p.m. to 4:30 p.m. EST.
May 6, 2020 | 1:00 p.m. to 4:30 p.m. EST.

The meeting sessions are open to the public. If you are interested in attending the meeting virtually, the dial-in number for both days is 1-800-767-1750, 02668#.

The purpose of the Committee is to advise the Secretary of Veterans Affairs on the administration of national cemeteries, soldiers' lots and plots, the selection of new national cemetery sites, the erection of appropriate memorials, and the adequacy of Federal burial benefits. The Committee will make recommendations to the Secretary regarding such activities.

On Tuesday, May 5, 2020, the agenda will include remarks by VA Leadership, a briefing from the Advisory Committee Management Office, discussion on burial benefits for Native American and Alaskan Veterans, status update on October 2019 Recommendations, and public comments.

On Wednesday, May 6, 2020, the agenda will include workgroup reports on the recommendations for Emblems of Belief, Outreach Ambassador Program, and Outreach Materials and Strategic Plan, review of any new recommendations, charges and next steps, remarks from departed and departing members, and public comments.

Any member of the public wishing to attend the meeting should contact Ms. Christine Hamilton, Designated Federal Officer, at (202) 461-5681. Please leave a voice message. The Committee will also accept written comments. Comments may be transmitted electronically to the Committee at christine.hamilton1@va.gov. In the public's communications with the Committee, the writers must identify themselves and state the organizations, associations, or persons they represent.

Dated: April 22, 2020.
Jelessa M. Burney,
Federal Advisory Committee Management Officer.

[FR Doc. 2020-08887 Filed 4-24-20; 8:45 am]

BILLING CODE P